DEPARTMENT OF COMMERCE

National Oceanic and Atmospheric Administration

RIN 0648-XE594

North Pacific Fishery Management Council; Public Meeting

AGENCY: National Marine Fisheries Service (NMFS), National Oceanic and Atmospheric Administration (NOAA), Commerce.

ACTION: Notice of public meeting.

SUMMARY: The North Pacific Fishery Management Council's Pacific Northwest Crab Industry Advisory Committee (PNCIAC) will meet May 31, 2016.

DATES: The meeting will be held on Tuesday, May 31, 2016, from 10 a.m. to 5 p.m.

ADDRESSES: The meeting will be held at the Alaska Bering Sea Crabbers' office 4005 20th Ave. W, Suite 102, Seattle, WA 98188. Teleconference line is 1-800-920-7487, passcode is 88696426#.

Council address: North Pacific Fishery Management Council, 605 W. 4th Ave., Suite 306, Anchorage, AK 99501-2252; telephone: (907) 271-2809.

FOR FURTHER INFORMATION CONTACT: Diana Stram, Council staff; telephone: (907) 271-2809, or Lance Farr, Committee Chair (206) 669-7163.

SUPPLEMENTARY INFORMATION:

Agenda

Tuesday May 31, 2016

The Committee will review the Bering Sea Aleutian Island Crab 10-year review.

The Agenda is subject to change, and the latest version will be posted at http://www.npfmc.org/.

Special Accommodations

The meeting is physically accessible to people with disabilities. Requests for sign language interpretation or other auxiliary aids should be directed to Shannon Gleason at (907) 271-2809 at least 7 working days prior to the meeting date.

Dated: May 6, 2016.
Tracey L. Thompson,
Acting Deputy Director, Office of Sustainable Fisheries, National Marine Fisheries Service.

[FR Doc. 2016-11081 Filed 5-10-16; 8:45 am]

BILLING CODE 3510-22-P